DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

The National Railroad Passenger Corporation

(Docket Number FRA-2009-0103)

By letter dated September 28, 2009, the National Railroad Passenger Corporation (Amtrak), a Class 1 Railroad, petitioned FRA for a waiver of compliance from 49 CFR part 214 (Railroad Workplace Safety) related to the removal of snow from passenger station platforms outside of the Northeast Corridor. Notice of this waiver request was published on October 30, 2009. 74 FR 56257. Amtrak subsequently withdrew its September 28, 2009, waiver request and by letter dated November 13, 2009, Amtrak submitted a modified request for waiver from 49 CFR part 214, again related to the removal of snow from passenger station platforms outside of the Northeast Corridor.

Section 214.335 of Part 214 specifies the methods by which roadway work groups may be provided on-track safety when fouling tracks to perform work. Fouling a track means “the placement of an individual or an item of equipment in such proximity to a track that the individual or equipment could be struck by a moving train or on-track equipment, or in any case is within four feet of the field side of the near running rail.” Amtrak states that the current definition of fouling a track prevents the timely removal of snow from the last three feet of station platforms adjacent to the track and it discourages the removal of snow in an area where snow removal is critical for passenger safety. Accordingly, Amtrak seeks permission to implement alternative protection for workers removing snow.

In accordance with Amtrak's waiver request, only Amtrak employees and contractors trained on the alternative protection methods will be used to remove snow from platforms and when relying on the proposed alternative protection procedure, only small tools such as shovels, brooms and leaf blowers would be used. If large, powered equipment is to be used, Amtrak would comply with 49 CFR part 214.

The alternative protection procedure would also include:

1. Job briefings to discuss work to be done.

2. Prohibition on workers' feet crossing the yellow tactile strip.

3. Prohibition on conducting snow removal in the presence of moving trains.

Amtrak also submits they are not aware of any safety incidents associated with the recommended procedures at the many stations maintained by public agencies such as municipalities that use non railroad employees to clear platforms.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0103) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on December 11, 2009.
Grady C. Cothen, Jr.,
Deputy Associate Administrator for Safety Standards and Program Development.

[FR Doc. E9-30202 Filed 12-17-09; 8:45 am]

BILLING CODE 4910-06-P